DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[11/4/2014 through 11/13/2014]
Firm name | Firm address | Date accepted for investigation | Product(s)
ETM Enterprises I, Inc., d/b/a ETM Enterprises, Inc | 920 N. Clinton Street, Grand Ledge, MI 48837 | 11/13/2014 | The firm manufactures compression molded fiberglass reinforced plastic parts for heavy-duty transportation vehicles.
Gulf Fish, Inc. | 5885 Highway 311, Houma, LA 70360 | 11/13/2014 | The firm processes shrimp and prawn for consumption.
Ingersoll CM Systems, LLC | 3505 Centennial Drive, Midland, MI 48642 | 11/12/2014 | The firm manufactures machine tool equipment for crankshaft and camshaft machining lines.
Pioneer Service, Inc. | 542 W. Factory Road, Addison, IL 33272 | 11/12/2014 | The firm manufactures machined metal parts and components.
American Standard Company, Inc. | 1570 Water Street, Southington, CT 06489 | 11/12/2014 | The firm manufactures fiber optic wire strippers, dog tags, blades for knives, tree pruning tools, various metal stamped products and various tools assemblies.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: November 13, 2014.
Michael DeVillo,
Eligibility Examiner.

[FR Doc. 2014-27371 Filed 11-18-14; 8:45 am]

BILLING CODE 3510-WH-P